DEPARTMENT OF HOMELAND SECURITY

Senior Executive Service Performance Review Boards

AGENCY: Office of the Secretary, Department of Homeland Security.

ACTION: Notice.

SUMMARY: This notice announces the appointment of members of the Senior Executive Service (SES) Performance Review Boards (PRBs) for the Department of Homeland Security (DHS). The purpose of the PRBs is to make recommendations to the appointing authority (i.e., Component head) on the performance of senior executives (career, noncareer, and limited appointees), including recommendation on performance ratings, performance-based pay adjustments, and performance awards. The PRBs will also make recommendations on the performance of Transportation Security Executive Service, Senior Level, and Scientific and Professional employees. To make its recommendations, the PRBs will review performance appraisals, initial summary ratings, any response by the employee, and any higher-level official's findings.

DATES: Applicable Dates: This Notice is applicable as of October 18, 2021.

FOR FURTHER INFORMATION CONTACT: Greg Ruocco, Director, Executive Resources, Office of the Chief Human Capital Officer, greg.ruocco@hq.dhs.gov, (202) 897-8470.

SUPPLEMENTARY INFORMATION: In accordance with 5 U.S.C. 4314(c) and 5 CFR 430.311, each agency must establish one or more PRBs to make recommendations to the appointing authority (i.e., Component head) on the performance of its senior executives. Each PRB must consist of three or more members. More than one-half of the membership of a PRB must be SES career appointees when reviewing appraisals and recommending performance-based pay adjustments or performance awards for career appointees. Composition of the specific PRBs will be determined on an ad hoc basis from among the individuals listed below:

List of Names (Alphabetical Order)

Adamcik, Carol A.

Aguilar, Max

Alfonso-Royals, Angelica

Allen, Matthew C.

Alles, Randolph D.

Anderson, Sandra D.

Antognoli, Anthony

Archambeault, Gregory J.

Armstrong, Gloria R.

Arratia, Juan

Baden, Mary

Bailey, Angela S.

Baker, Jeremy D.

Baker, Paul E.

Barksdale-Perry, Nicole C.

Baroukh, Nader

Barrera, Staci A.

Barrett, Lawrence R.

Beagles, James M.

Berg, Peter B.

Berger, Katrina W.

Bernstein, Meira

Bhagowalia, Sanjeev

Bible, Daniel A.

Bible, Kenneth

Blackwell, Juliana J.

Blessey, Caroline

Bobich, Jeffrey M.

Bonner, Bryan

Borkowski, Mark S.

Boyd, John

Boyer, Stephen A.

Bradshaw, Patricia S.

Brane, Michelle

Braun, Jacob H.

Brewer, Julie S.

Bright, Andrea J.

Brito, Roberto

Brown, Alan S.

Browne, Rene E.

Brundage, William

Bryan, Michelle C.

Bucholtz, Kathleen L.

Bullock, Edna

Bunker, Michael D.

Burgess, Kenneth

Burks, Atisha

Burns, Robert P.

Burriesci, Kelli A.

Bush, Thomas L.

Bush, William B.

Cagen, Steven W.

Caggiano, Marshall L.

Caine, Jeffrey

Cameron, Michael K.

Campo, Brian

Canevari, Holly E.

Canty, Rachel E.

Cappello, Elizabeth A.

Carnes, Alexandra

Carpio, Philip F.

Carraway, Melvin J.

Castro, Raul M.

Chaleki, Thomas D.

Cheatle, Kimberly A.

Cheng, Wen-Ting

Clark, Alaina

Cleary Stannard, Jennifer S.

Cline, Richard K.

Cloe, David

Cofield, Valerie M.

Cohen, John D.

Collins, James L.

Condon, John A.

Cook, Charles

Coronado, Luis

Corrado, Janene M.

Cotter, Daniel

Courey, Marc B.

Courtney, Paul

Coven, Phyllis

Cox, Adam

Cox, Debra S.

Cronen, Christopher M.

Cross, Catherine C.

Crumpacker, Jim H.

Culliton-Gonzalez, Katherine

Cunningham, John D.

Dainton, Albert J.

Dargan, John L.

Das, Sharmistha

Daskal, Jennifer

Davidson, Michael J.

Davis, Michael P.

Davis, Michael P.

Dawson, Inga I.

Decker, Thomas R.

Dembling, Ross W.

DeNayer, Larry C.

Denton, David L.

DeQuattro, Pat

Di Pietro, Joseph R.

DiFalco, Frank J.

Dipippa, Kathy L.

Dobitsch, Stephanie M.

Doran, Thomas J.

Dornburg, Erica M.

Dorr, Robert

Dragani, Nancy J.

Dunbar, Susan C.

Dupree, Lynn

Eaton, Joseph J.

Ederheimer, Joshua A.

Edwards, Benjamin R.

Edwards, Eric L.

Ejiasa, Cyprian

Eldredge, Deborah N.

Ellison, Jennifer

Emrich, Matthew D.

Escobar Carrillo, Felicia A.

Essaheb, Kamal

Evetts, Mark V.

Falk, Scott K.

Fallon, William T.

Fenton, Jennifer M.

Ferrara, William A.

Fitzmaurice, Stacey D.

Fitzpatrick, Ronnyka

Fluit, Heather

Fong, Heather

Francis, Steve K.

Fujimura, Paul

Gabbrielli, Tina

Gabbrielli, Tina W.

Gabriel, Russell

Gaches, Michael

Gantt, Kenneth D.

Geer, Harlan

Gersten, David

Gladwell, Angela R.

Glass, Veronica

Gountanis, John

Granger, Christopher

Grazzini, Christopher

Groom, Molly

Gunter, Brett A.

Guzman, Nicole

Guzman, Nicole G.

Habersaat, Mark S.

Hall, Christopher J.

Hampton, Stephanie L.

Harris, Melvin

Harvey, Melanie K.

Hatch, Peter

Havranek, John F.

Heinz, Todd W.

Henderson, Rachelle B.

Hess, David A.

Hickey, Gary

Higgins, Jennifer B.

Highsmith, AnnMarie R.

Hinkle-Bowles, Paige

Hochman, Kathleen

Holzer, James

Hoover, Crinley S.

Horton, Michael G.

Horyn, Iwona B.

Howard, Tammy

Hoy, Serena

Huang, Paul P.

Huffman, Benjamine C.

Hughes, Clifford T.

Hunter, Adam

Huse, Thomas F.

Hysen, Eric

Ileto, Carlene

Jackson, Arnold D.

James, Michele M.

Jawetz, Tom

Jenkins, Donna

Jennings, David W.

Jeronimo, Jose M.

Johnson, James V.

Johnson, Tae D.

Jones, Eric C.

Kaufman, Steven

Kelley, Angela M.

Kelly, Kevin M.

Kerner, Francine

King, Matthew H.

King, Tatum S.

Klein, Matthew

Koumans, Marnix R.

Kronisch, Matthew L.

Kuepper, Andrew

Kuhn, Karen A.

LaJoye, Darby R.

Lambeth, John

Lanum, Scott F.

Larrimore, David

Laurance, Stephen A.

Lawrence, Jamie

Lechleitner, Patrick J.

Lederer, Calvin M.

Lee, Kimya S.

Leonard, John P.

Letowt, Philip J.

Lewis, James

Loiacono, Adam V.

Lundgren, Karen E.

Lynch, Steven M.

Lyon, Shonnie R.

Lyons, Todd M.

Maday, Brian

Magrino, Christopher

Maher, Joseph B.

Mapar, Jalal

Marcott, Stacy

Martin, Joseph F.

Maurer, Tim

McComb, Richard

McCullar, Shannon

McDermott, Thomas

McDonald, Christina E.

McElwain, Patrick J.

McEntee, Jonathan

McGovern, Helen Mary

McLane, JoAnn

Meade, Michael W.

Meckley, Tammy M.

Medina, Yvonne R.

Mehringer, Holly C.

Meyer, Joel T.

Michelini, Dennis J.

Miles, Jere T.

Miles, John D.

Miller, Alice

Miller, Gail

Miller, Matthew S.

Millona, Eva A.

Mina, Peter E.

Mitchell, Kathryn C.

Moman, Christopher C.

Moncarz, Benjamin D.

Mulligan, George D.

Murphy, Brian J.

Murphy, Mark

Murray, James M.

Mussington, Brian D.

Nally, Kevin J.

Natarajan, Nitin

Navarro, Donna M.

Neitzel, Beth

Neumeister, James

Newman, Robert B.

Nolan, Connie L.

O'Connor, Kimberly

Ogden, Jason T.

Olick, Karen L.

Olson, David

Ondocin, Michael A.

Ornato, Anthony M.

Ortiz, Raul L.

Padilla, Kenneth

Padilla, Kenneth

Padilla Jr, Manuel

Palmer, David J.

Paramore, Faron K.

Paschall, Robert D.

Patel, Kalpesh A.

Patterson, Leonard E.

Pavlik-Keenan, Catrina

Perez, Nelson

Perry, Timothy

Picarelli, John

Piccone, Colleen C.

Pineiro, Marlen

Podonsky, Glenn S.

Pohlman, Teresa R.

Porto, Victoria

Powell, Jonathan

Price, Corey A.

Prosnitz, Susan M.

Punteney, James

Purifoy, Felicia

Quinn, Timothy J.

Raymond, John J.

Renaud, Daniel M.

Renaud, Tracy L.

Rezmovic, Jeffrey M.

Rodi III, Louis A.

Rodriguez, Waldemar

Roncone, Stephen A.

Rosenblum, Marc R.

Rubino, Jaclyn

Rynes, Joel C.

Sabatino, Diane J.

Sahakian, Diane V.

Salazar, Rebecca A.

Salazar, Ronald M.

Saltalamachea, Michael

Salvano-Dunn, Dana

Scardaville, Michael

Scott, Kika M

Sejour, Soldenise

Selby, Cara M.

Sequin, Debbie W.

Sevier, Adrian

Shahoulian, David

Shaw, David C.

Shearer, Ruth C.

Sheridan, Jeremy C.

Short, Victoria D.

Skelton, Kerry T.

Smislova, Melissa

Smith, Frederick B.

Spradlin, Ryan L.

Stephens, Celisa M.

Stevenson, Tirelle D.

Stiefel, Nathaniel I.

Stough, Michael S.

Stuntz, Shelby

Sulc, Brian

Sunstein, Cass

Sutherland, Dan W.

Swartz, Neal J.

Sykes, Gwendolyn

Tabaddor, Afsaneh

Tapscott, Wallicia

Taylor, Robin M.

Todd, Sarah

Tomney, Christopher J.

Toris, Randolph B.

Trasvina, John

Try, Gregory W.

Tschampel, Richard

Valverde, Michael

Van Houten, Ann

Venture, Veronica

Villanueva, Raymond

Vinograd, Samantha

Wales, Brandon

Wallen, Steven

Walton, Kimberly A.

Washington, Karinda

Wasowicz, John A.

Watkins, Tracey L.

Watson, Andre R.

Wawro, Joseph D.

Wells, James

Whalen, Mary Kate

Wheaton, Kelly D.

Williams, Marta

Williams II, Jesse J.

Witte, Diane L.

Wolfe, Herbert

Wong, Sharon M.

Wright, Christopher J.

Yarwood, Susan A.

Dated: October 12, 2021.
Greg Ruocco,
Director, Executive Resources, Office of the Chief Human Capital Officer.

[FR Doc. 2021-22572 Filed 10-15-21; 8:45 am]

BILLING CODE 9112-FC-P